NATIONAL AERONAUTICS AND SPACE ADMINISTRATION

[Notice (03071)]

NASA Advisory Committee; Notice of Establishment

AGENCY: National Aeronautics and Space Administration (NASA).

The Administrator of the National Aeronautics and Space Administration has determined that the establishment of a Return to Flight Task Group is necessary and in the public interest in connection with the performance of duties imposed upon NASA by law. This determination follows consultation with the Committee Management Secretariat, General Services Administration.

Name of Committee: Return to Flight Task Group.

Purpose and Objective: The Task Group will perform an independent assessment of NASA's actions to implement the recommendations of the Columbia Accident Investigation Board (CAIB), as they relate to the safety and operational readiness of STS-114. While the Task Group will not attempt to assess the adequacy of the CAIB recommendations, it will report on the progress of NASA's response to meet their intent. The Task Group will draw on the expertise of its members and other sources to provide its assessment to the Administrator. The Task Group will hold meetings and make site visits as necessary to accomplish their fact-finding. The Task Group will be provided information necessary to perform its advisory functions, including activities of both the Agency and its contractors. The Task Group will function solely as an advisory body and will comply fully with the provisions of the Federal Advisory Committee Act.

Balanced Membership Plans: The Task Group will consist of non-NASA employees and one NASA non-voting, ex-officio member, the Deputy Associate Administrator for Safety and Mission Assurance. In addition, there may be associate members selected for Task Group Panels. The Task Group may also request appointment of consultants to support specific tasks. Members of the Task Group and Panels will be chosen from among industry, academia, and government with recognized knowledge and expertise in fields relevant to safety and space flight. Total membership will reflect a balanced view.

Duration: Continuing.

Responsible NASA Official: Dr. Michael A. Greenfield, Associate Deputy Administrator for Technical Programs, National Aeronautics and Space Administration, 300 E Street, SW., Washington, DC 20546, telephone 202/358-1820.

June W. Edwards,
Advisory Committee Management Officer, National Aeronautics and Space Administration.

[FR Doc. 03-15509 Filed 6-18-03; 8:45 am]

BILLING CODE 7510-01-P